DEPARTMENT OF HEALTH AND HUMAN SERVICES

National Institutes of Health

National Institutes of Health; Amended Notice of Meeting

Notice is hereby given of a change in the meeting of the National Institute of Mental Health Special Emphasis Panel, March 2, 2001, 1 p.m. to March 2, 2001, 2 p.m. Neuroscience Center, National Institutes of Health, 6001 Executive Blvd., Bethesda, MD 20892 which was published in the Federal Register on February 23, 2001, 66 FR 11302.

The meeting will be held on Monday, April 9, 2001, as a telephone conference from 9 a.m. to 10:30 a.m. at the Neuroscience Center. The meeting is closed to the public.

Dated: March 6, 2001.
Laverne Y. Stringfield,
Director, Office of Federal Advisory Committee Policy.

[FR Doc. 01-6260 Filed 3-13-01; 8:45 am]

BILLING CODE 4140-01-M